DEPARTMENT OF HEALTH AND HUMAN SERVICES

Centers for Medicare & Medicaid Services

Statement of Organization, Functions, and Delegations of Authority

This notice amends Part F, Section F.70 (Order of Succession) of the Statement of Organization, Functions, and Delegations of Authority of the Department of Health and Human Services (HHS), Centers for Medicare & Medicaid Service (CMS), 75 FR 71714, dated November 24, 2010, which is rescinded and replaced by the following:

Orders of Succession

1. During any period when the Administrator, Centers for Medicare & Medicaid Services (CMS) has died, resigned, or otherwise becomes unable to perform the functions and duties in the Office of the Administrator, CMS, the following officers, in the Order of Succession listed below, shall act for and perform the functions and duties of the Office of the Administrator, CMS, until such time as: the Administrator, CMS, again becomes available; a permanent successor is appointed by the President and confirmed by Congress; or the temporary successor is otherwise relieved:

a. Principal Deputy Administrator.

b. Deputy Administrator and Director, Center for Medicare.

c. Deputy Administrator and Director, Center for Medicaid and CHIP Services.

d. Chief of Staff.

e. Chief Operating Officer.

2. During any period when there is no eligible officer available or capable of performing responsibilities in the Office of the Administrator, CMS, pursuant to the officers listed in 1.a. through 1.e. above, the following positions in CMS, in the Order of Succession listed below, shall act and perform the functions and duties inherent in the Emergency Operations Executive (EOE) in the event of an emergency situation:

a. Consortium Administrator, Consortium for Quality Improvement and Survey & Certification Operations.

b. Consortium Administrator, Consortium for Financial Management and Fee For Service Operations.

c. Consortium Administrator, Consortium for Medicaid and Children's Health Operations.

d. Consortium Administrator, Consortium for Medicare Health Plans Operations.

The authority to act as the Administrator, CMS, must be exercised in accordance with the provisions of the Federal Vacancies Reform Act of 1998 (“the Vacancies Act”), 5 U.S.C. Section 3345 et seq. The “Acting” title is applicable and reserved only in instances in which the Administrator, CMS, position is vacant. In accordance with the Vacancies Act, the Principal Deputy Administrator is herein designated as the first assistant for CMS.

During a planned absence, the Administrator, CMS, may designate an individual to serve as “operationally in charge.” If an individual is serving in an “operationally in charge” capacity, he or she is not eligible for any delegated authority under these Orders of Succession unless he or she was designated as a delegatee by the Administrator, CMS.

The two Orders of Succession listed in this notice are limited to the duties and responsibilities of only the officers and positions. Number 1 can only be exercised in order to accomplish the goals of maintaining the agency's essential functions. Number 2 can only be exercised to restore the agency's normal business functions under the CMS Continuity of Operations Plan.

The EOE is responsible for notifying the Secretary, HHS and any available CMS leadership that the EOE has assumed responsibility.

I, or my successor retain the authority to change, amend, or re-delegate this notice.

The two Orders of Succession listed in this notice remain in effect and will be revised accordingly as positions or nomenclature change in CMS.

This notice only applies to periods when the Administrator, CMS, or his or her successor are not available to perform the duties and responsibilities contained in the two Orders of Succession.

This notice is effective upon date of signature.

Dated: March 27, 2014.
Marilyn Tavenner,
Administrator.

[FR Doc. 2014-07241 Filed 3-31-14; 8:45 am]

BILLING CODE 4120-01-P